DEPARTMENT OF TRANSPORTATION

National Highway Traffic Safety Administration

[Docket No. NHTSA-2025-0024]

Agency Information Collection Activities; Submission to the Office of Management and Budget for Review and Approval; Request for Comment; National Survey of the Use of Booster Seats

AGENCY: National Highway Traffic Safety Administration (NHTSA), Department of Transportation (DOT).

ACTION: Notice and request for comments on a currently-approved collection of information.

SUMMARY: In compliance with the Paperwork Reduction Act of 1995 (PRA), this notice announces that the Information Collection Request (ICR) summarized below will be submitted to the Office of Management and Budget (OMB) for review and approval. The ICR describes the nature of the information collection and its expected burden. This document describes an extension of a currently approved information collection for which NHTSA intends to seek OMB approval on the National Survey of the Use of Booster Seats (NSUBS). A Federal Register Notice with a 60-day comment period soliciting comments on the following information collection was published on April 2, 2025. One comment was received. The comment does not necessitate NHTSA making any revisions to the information collection or burden estimates.

DATES: Comments must be submitted on or before August 21, 2025.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Lacey Werth, Office of Traffic Records and Analysis (NSA-210), (202) 366-7468, National Center for Statistics and Analysis, U.S. Department of Transportation, 1200 New Jersey Avenue SE, Washington, DC 20590, Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: National Survey of the Use of Booster Seats.

OMB Control Number: 2127-0644.

Form Number: 1010. The data collection will be conducted electronically, replacing the previously used paper form. The form number will remain the same and should have been included in the 60-day Federal Register notice.

Type of Request: Extension of a currently-approved information collection.

Type of Review Requested: Regular.

Length of Approval Requested: Three years from date of approval.

Summary of the Collection of Information: The NSUBS is a voluntary collection of restraint use information for children under 13. The purpose of the NSUBS is to gather information on restraint use for all child occupants, in particular the use of booster seats among children ages 4-7. NSUBS is a biennial collection that involves data collectors visiting sampled gas stations, recreation centers, day care centers, and seven specific fast food restaurant chains where vehicles are most likely to have child occupants. Data collectors will observe as many vehicles as possible that appear to have a least one child occupant under the age of 13 in order for data collector observation of restraint use for all occupants. For motorists who voluntarily participate in a subsequent interview, the data collectors conduct a brief interview with the vehicle driver or other knowledgeable adult to determine the age, height, weight, race/ethnicity of the child occupants and age of the driver. The survey collects data to support estimates of restraint use for all children under 13. The collection includes race/ethnicity breakouts of restraint use among all occupants in a vehicle as well as age, height, and weight of children.

Description of the Need for the Information and Proposed Use of the Information: The NSUBS is conducted to respond to Section 14(i) of the Transportation Recall Enhancement, Accountability, and Documentation (TREAD) Act of 2000. The Act directs DOT to reduce deaths and injuries among children in the 4- to 8-year old age group that are caused by failure to use a booster seat by twenty-five percent. Conducting the NSUBS provides the Department with invaluable information on use and non-use of booster seats, helping the Department to improve its outreach programs to ensure that children are protected to the greatest extent possible when they ride in motor vehicles. The survey data will allow programs to better reach the caretakers whose children are unrestrained or not using the best restraint choice for their children's sizes. The findings may also be of interest to State legislatures wanting to strengthen their child restraint laws by enacting mandatory or enhanced booster seat use provisions.

60-Day Notice: A Federal Register notice with a 60-day comment period soliciting public comments on the following information collection was published on April 2, 2025 (90 FR 14515). One comment was received. The comment is about Elections Commission Advisor with an attached 10 Day Payoff Quote. This comment does not appear to be related to NSUBS. The comment does not necessitate a revision to the scope of the information collection or the estimates of the annual cost or burden hours.

Affected Public: Motorists in passenger vehicles with children under 13 who are approached at gas stations, fast food restaurants, day care centers, and recreation centers frequented by children and asked to participate in the survey.

Estimated Number of Respondents: Based on the average number of respondents from the last three survey years, we estimate that there will be approximately 4,600 respondents (i.e., 4,600 adult motorists in passenger vehicles with children under 13 at gas stations, fast food restaurants, day care centers, and recreation centers who agree to be interviewed for the survey).

Frequency: Biennial.

Estimated Total Annual Burden Hours: NHTSA estimates that each respondent will spend approximately 4.25 minutes providing the required information. A respondent is defined as an adult motorist providing information about the children in their vehicle. Based on this, NHTSA estimates the total burden for 4,600 respondents to be approximately 326 hours. The calculation is as follows:

(4.25 minutes × 4,600 respondents) ÷ 60 minutes/hour = 325.8 hours

Since NSUBS data collection occurs biennially, dividing the total burden hours by two results in an annual burden of 163 hours.

Table 1—Burden Estimates
Total responses | Estimated burden per response | Total burden hours per survey | Total annual responses | Total annual burden hours
4,600 | 4.25 | 326 | 2,300 | 163

To estimate the value of the respondents' time, NHTSA uses the average hourly wage in the United States, which is estimated to be $31.48.¹ Since wages represent only 61.6 percent of total compensation (according to Bureau of Labor Statistics (BLS) data), the fully loaded hourly compensation is $51.10. Using this figure, NHTSA calculates the total opportunity cost to respondents for each survey to be $16,658.60 (326 hours × $51.10) or $8,329.30 annually.

¹ U.S. Dept. of Labor, Bureau of Labor Statistics, April 3, 2024, from https://www.bls.gov/oes/current/oes_nat.htm#00-0000 for May 2023.

Table 2—Opportunity Costs Estimates
Total responses | Estimated burden per response (minutes) | Average hourly opportunity cost | Opportunity cost per response | Total burden hours per survey | Total opportunity cost per survey | Total annual opportunity cost
4,600 | 4.25 | $51.10 | $3.62 | 326 | $16,658.60 | $8,329.30

Estimated Total Annual Burden Cost: Participation in this study is voluntary and there are no costs to respondents beyond the time spent taking part in the survey.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Chou-Lin Chen,
Associate Administrator, National Center for Statistics and Analysis.

[FR Doc. 2025-13778 Filed 7-21-25; 8:45 am]

BILLING CODE 4910-59-P